DEPARTMENT OF HOMELAND SECURITY

Coast Guard

33 CFR Part 165

[Docket No. USCG-2025-0660]

Safety Zone; Seafair Air Show Performance, Seattle, WA

AGENCY: Coast Guard, DHS.

ACTION: Notification of enforcement of regulation.

SUMMARY: The Coast Guard will enforce a safety zone on Lake Washington, Seattle, Washington for the annual Seafair Air Show Performance from 8 a.m. until 4 p.m., each day from July 31, 2025, through August 3, 2025, to provide for the safety of life on navigable waterways during this event. The regulation for this safety zone identifies the regulated area for this event on Lake Washington, Seattle, Washington. During enforcement periods no person or vessel may enter or remain within the safety zone, except those authorized by the Captain of the Port Sector Puget Sound (COTP) or their designated representative(s). Vessels and persons granted authorization to enter the safety zone shall obey all lawful orders or directions of the COTP or their designated representative(s).

DATES: The regulations in 33 CFR 165.1319 will be enforced from 8 a.m. until 4 p.m., each day from July 31, 2025 through August 3, 2025.

FOR FURTHER INFORMATION CONTACT: If you have questions about this notification of enforcement, call or email Lieutenant Anthony Pinto, U.S. Coast Guard, Sector Puget Sound, Waterways Management Division; by telephone 206-217-6051, or email SectorPugetSoundWWM@uscg.mil.

SUPPLEMENTARY INFORMATION: The Coast Guard will enforce the safety zone in 33 CFR 165.1319 for the annual Seafair Air Show Performance from 8 a.m. until 4 p.m. each day from July 31, 2025 through August 3, 2025. This action is being taken to provide for the safety of life on navigable waterways during this event. The regulation for this safety zone, 33 CFR 165.1319(b), specifies the location of this safety zone for the annual Seafair Air Show Performance which encompasses a portion of Lake Washington, Seattle, Washington. During the enforcement periods, as reflected in § 165.1319(c), no person may enter or remain in the zone except support vessels and support personnel, vessels registered with the event organizer, or other vessels authorized by the COTP or their designated representative(s). Vessels and persons granted authorization to enter the safety zone must obey all lawful orders or directions of the COTP or their designated representative(s).

The COTP may be assisted by other federal, state, and local law enforcement agencies in enforcing this regulation.

In addition to this notification of enforcement in the Federal Register, the Coast Guard plans to provide notification of the enforcement period via marine information broadcast and Local Notice to Mariners.

Dated: July 23, 2025.
Mark A. McDonnell,
Captain, U.S. Coast Guard, Captain of the Port, Sector Puget Sound.

[FR Doc. 2025-14537 Filed 7-30-25; 8:45 am]

BILLING CODE 9110-04-P